DEPARTMENT OF TRANSPORTATION

Office of the Secretary

Notice of Applications for Certificates of Public Convenience and Necessity and Foreign Air Carrier Permits Filed Under Subpart Q During the Week Ending September 29, 2000

The following Applications for Certificates of Public Convenience and Necessity and Foreign Air Carrier Permits were filed under Subpart Q of the Department of Transportation's Procedural Regulations (See 14 CFR 302.1701 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2000-7121.

Date Filed: September 25, 2000.

Due Date for Answers, Conforming Applications, or Motion to Modify Scope: October 16, 2000.

Description: Application of AOM-Minerve, S.A. (“AOM”) pursuant to 49 U.S.C. Section 41302 and Subpart B, requests an amendment of its foreign air carrier permit to include New Caledonia in its route description.

Docket Number: OST-2000-8015.

Date Filed: September 25, 2000.

Due Date for Answers, Conforming Applications, or Motion to Modify Scope: October 16, 2000.

Description: Application of Sun Air Express, LLC. pursuant to 49 U.S.C. 41738 and Subpart B, requests authority to engage in scheduled commuter passenger operations.

Docket Number: OST-2000-8029.

Date Filed: September 28, 2000.

Due Date for Answers, Conforming Applications, or Motion to Modify Scope: October 19, 2000.

Description: Application of Brendan Air, LLC (“Brendan Airways”) pursuant to 49 U.S.C. 41102 and Subpart B, submits this application for a certificate of public convenience and necessity authorizing interstate and overseas charter air transportation of persons, property, and mail.

Docket Number: OST-2000-8030.

Date Filed: September 28, 2000.

Due Date for Answers, Conforming Applications, or Motion to Modify Scope: October 19, 2000.

Description: Application of Brendan Air, LLC (“Brendan Airways”) pursuant to 49 U.S.C. Section and Subpart B, submits this application for a certificate of public convenience and necessity authorizing foreign charter air transportation of persons, property, and mail.

Dorothy Y. Beard,
Federal Register Liaison.

[FR Doc. 00-28254 Filed 11-2-00; 8:45 am]

BILLING CODE 4910-62-P